DEPARTMENT OF HEALTH AND HUMAN SERVICES

Meeting of the Advisory Committee on Minority Health; Correction

AGENCY: Department of Health and Human Services, Office of the Secretary, Office of Minority Health.

ACTION: Notice; correction.

SUMMARY: The meeting of the Advisory Committee on Minority Health (ACMH) scheduled for January 28 and 29, 2016, is cancelled due to inclement weather. This meeting will be rescheduled at a future date.

FOR FURTHER INFORMATION CONTACT: Dr. Minh Wendt, Designated Federal Officer, ACMH; Tower Building, 1101 Wootton Parkway, Suite 600, Rockville, Maryland 20852. Phone: 240-453-8222. Fax: 240-453-8223. Email: OMH-ACMH@hhs.gov.

Correction

In the Federal Register of January 5, 2016, Vol. 81, No. 2, on pages 242-243 a meeting of the Advisory Committee on Minority Health was announced. That meeting has been cancelled due to inclement weather.

Dated: February 1, 2016.
Minh Wendt,
Alternate Designated Federal officer, ACMH, Office of Minority Health, U.S. Department of Health and Human Services.

[FR Doc. 2016-02246 Filed 2-4-16; 8:45 am]

BILLING CODE 4150-29-P